DEPARTMENT OF TRANSPORTATION

Office of the Secretary

Notice of Applications for Certificates of Public Convenience and Necessity and Foreign Air Carrier Permits Filed Under Subpart Q During the Week Ending February 2, 2001

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-8823.

Date Filed: January 30, 2001.

Due Date for Answers, Conforming Applications, or Motion to Modify Scope: February 20, 2001.

Description

Application of Express One International pursuant to 49 U.S.C. Section 41102 and Part 201, Subpart B of Part 302, applies for the issuance of a certificate of public convenience and necessity authorizing Express One to provide scheduled foreign air transportation of property and mail between any point or points in the United States and any point or territory or possession in the United States and any point or points in the countries listed in this application.

Docket Number: OST-2001-8848.

Date Filed: February 2, 2001.

Due Date for Answers, Conforming Applications, or Motion to Modify Scope: February 23, 2001.

Description

Application of Air Canada Regional Inc. pursuant to 49 U.S.C. Section 41301, and Subpart Q, applies for a Foreign Air Carrier Permit that would enable Air Canada Regional to hold out scheduled foreign air transportation of persons, property and mail between any point or points in Canada, and any point or points in the United States, and to engage in foreign charter operations pursuant to the Department's charter regulations.

Dorothy Y. Beard,
Federal Register Liaison.

[FR Doc. 01-4274 Filed 2-20-01; 8:45 am]

BILLING CODE 4910-62-P